Department of Commerce

International Trade Administration

Public Hearing on the Addendum to the Agreement Concerning Trade in Certain Steel Products from the Russian Federation

AGENCY: Import Administration, International Trade Administration, Department of Commerce.

SUMMARY: Pursuant to section 125(f) of the Trade Act of 1974, the Department of Commerce has scheduled a public hearing on a potential change to the import restrictions on semifinished steel products from the Russian Federation to the United States.

EFFECTIVE DATE: June 28, 2002.

FOR FURTHER INFORMATION CONTACT: For procedural questions concerning the public hearing and/or public comments, contact Carrie Blozy at (202) 482-0165. All other questions should be directed to Edward Yang at (202) 482-0406.

SUPPLEMENTARY INFORMATION: On June 1, 1990, pursuant to Title IV of the Trade Act of 1974 (the Trade Act), the Governments of the United States of America and the Union of Soviet Socialist Republics entered into the Agreement on Trade Relations Between the United States of America and the Union of Soviet Socialist Republics. On June 17, 1992, this agreement became effective between the United States of America and the Russian Federation (“the 1992 Agreement”). Article XI of the 1992 Agreement provides that the Parties will consult with a view toward finding a means of remedying or preventing actual or threatened market disruption, and authorizes the Parties to take action, including the imposition of import restrictions, to achieve this goal.

On July 12, 1999, the United States Department of Commerce and the Ministry of Trade of the Russian Federation, (now the Ministry of Economic Development and Trade of the Russian Federation), concluded the Agreement Concerning Trade in Certain Steel Products From the Russian Federation (“the 1999 Agreement”) establishing import limitations on certain Russian steel products. On July 22, 1999, the President proclaimed the imposition of restraints on imports of certain steel products from the Russian Federation consistent with the 1999 Agreement. See Proclamation 7210 of July 22, 1999, 64 Fed.Reg. 40723 (July 27, 1999). On March 5, 2001, the President of the United States signed into effect the comprehensive relief program on steel imports pursuant to section 201 of the U.S. Tariff Act of 1974 (“201 Relief Program”). Recognizing that differences exist between the Tariff Rate Quotas established by the 201 Relief Program, and the export limits contained in the 1999 Agreement, the Parties agreed, ad referendum, to an Addendum to the Agreement Concerning Trade in Certain Steel Products From the Russian Federation (“Addendum”).

The United States is considering the acceptance of the Addendum and consequent modification to Proclamation 7210 in order to modify the terms of the 1999 Agreement with regards to semifinished steel products from the Russian Federation. This Addendum would modify the export limit, export limit period and reporting periods of the 1999 Agreement to comply with the 201 Relief Program. All other provisions of the 1999 Agreement not affected by this Addendum remain in effect and unchanged.

Section 125(c) of the Trade Act (19 U.S.C. §2135(c)) provides that whenever the United States, acting in pursuance of any of its rights or obligations under any trade agreement entered into pursuant to the Trade Act, modifies any obligation with respect to the trade of any foreign country or instrumentality, the President is authorized to proclaim increased duties or other import restrictions, to the extent, at such times, and for such periods as he deems necessary or appropriate, in order to exercise the rights or fulfill the obligations of the United States.

Section 125(f) of the Trade Act (19 U.S.C. §2135(f)) requires the President to provide the opportunity for interested parties to present views at a public hearing prior to taking action pursuant to section 125(b), (c), or (d) of the Trade Act (19 U.S.C. § §2135 (b), (c), or (d). Such an opportunity is being provided by the holding of such a hearing on July 17, 2002, at 10:00am, at the United States Department of Commerce. The Department has published a copy of the Addendum on its Import Administration website (http://www.ia.ita.doc.gov/newitems.htm).

Notice of Public Hearing: Pursuant to section 125(f) of the Trade Act of 1974 (19 U.S.C. §2135(f)), the International Trade Administration of the Department of Commerce, has scheduled a public hearing beginning at 10 am, on July 17, 2002, at Room (TBA) of the Herbert C. Hoover Building, U.S. Department of Commerce, 14th and Constitution Ave., NW, Washington, DC.

Requests to Present Oral Testimony: Parties wishing to testify orally at the hearing must provide written notification of their intention not later than 5:00 p.m., July 8, 2002, to Faryar Shirzad, Assistant Secretary for Import Administration: Public Hearing on the Addendum to the Agreement Concerning Trade in Certain Steel Products from the Russian Federation, Room 3099B, Herbert C. Hoover Building, U.S. Department of Commerce, 14th and Constitution Ave., NW, Washington, DC. The notification should include (1) the name of the person presenting the testimony, their address and telephone number; (2) the organization or company they are representing, if appropriate; (3) a list of issues to be addressed; and (4), if applicable, any request for an extension of the time limitation for the oral presentation. This notification may be submitted via facsimile to Vicki Sullivan at (202) 273-0957. Those parties presenting oral testimony must also submit a written brief, in 20 copies, not later than 10:00am, July 15, 2002, to the above mentioned address. Hearing presentations should be limited to no more than five minutes to allow for possible questions from the Chairman and the panel. Additional time for oral presentations may be granted as time and the number of participants permit. Any business proprietary material must be clearly marked as such on the cover page (or letter) and succeeding pages. Such submissions must be accompanied by a public summary thereof.

Written Briefs: Those persons not wishing to participate in the hearing may submit written comments, in 20 types copies, not later than 10:00am, July 15, 2002, to Faryar Shirzad, Assistant Secretary for Import Administration: In re the Addendum to the Agreement Concerning Trade in Certain Steel Products from the Russian Federation, Room 3099B, Herbert C. Hoover Building, U.S. Department of Commerce, 14th and Constitution Ave., NW, Washington, DC. Comments should state clearly the position taken and describe with specificity, the evidence supporting that position. Any business proprietary material must be clearly marked as such on the cover page (or letter) and succeeding pages. Such submissions must be accompanied by a public summary thereof. Public submissions will be available for public inspection at the Import Administration Central Records Unit. An appointment to review the file may be made by contacting Thomas Hartley at (202) 482-1248.

Dated: June 21, 2002
Joseph A. Spetrini,
Acting Assistant Secretary for Import Administration.

[FR Doc. 02-16374 Filed 6-27-02; 8:45 am]

BILLING CODE 3510-DS-S